DEPARTMENT OF ENERGY

Environmental Management Site-Specific Advisory Board, Hanford

AGENCY: Department of Energy.

ACTION: Notice of Open Meeting.

SUMMARY: This notice announces a meeting of the Environmental Management Site-Specific Advisory Board (EM SSAB), Hanford. The Federal Advisory Committee Act (Pub. L. 92-463, 86 Stat. 770) requires that public notice of this meeting be announced in the Federal Register.

DATES: Thursday, June 5, 2008, 9 a.m.-5 p.m.; Friday, June 6, 2008, 8:30 a.m.-4 p.m.

ADDRESSES: Red Lion Hotel Hanford House, 802 George Washington Way, Richland, Washington 99352, Phone: (509) 946-7611, Fax: (509) 943-8564.

FOR FURTHER INFORMATION CONTACT: Erik Olds, Federal Coordinator, Department of Energy Richland Operations Office, 2440 Stevens Drive, P.O. Box 450, H6-60, Richland, WA 99352; Phone: (509) 372-8656; or E-mail: Theodore_E_Erik_Olds@orp.doe.gov.

SUPPLEMENTARY INFORMATION: Purpose of the Board: The purpose of the Board is to make recommendations to DOE in the areas of environmental restoration, waste management, and related activities.

Tentative Agenda

• State of Columbia River;

• Uniform Safety Systems throughout Hanford;

• Configuration Control of Critical Assumptions;

• Rattlesnake Mountain;

• Update on Office of River Protection's Integrated System Plan;

• Update on Tri-Party Agreement Negotiations;

• Update from Hanford Advisory Board Leadership Retreat and Board work priorities;

• Science and Technology Roadmap;

• Update on Nuclear Regulatory Commission and their review of the regulatory processes of the Waste Treatment Plant;

• Recap of EM SSAB Chairs Meeting held on April 23-24, 2008 in Richland, Washington;

• Committee Updates including: Tank Waste Committee; River and Plateau Committee; Health, Safety and Environmental Protection Committee; Public Involvement Committee; and Budgets and Contracts Committee.

Public Participation: The meeting is open to the public. Written statements may be filed with the Board either before or after the meeting. Individuals who wish to make oral statements pertaining to agenda items should contact Erik Olds' office at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: Minutes will be available by writing or calling Erik Olds' office at the address or phone number listed above. Minutes will also be available at the following Web site: http://www.hanford.gov/?page=413&parent=397.

Issued at Washington, DC, on May 1, 2008.
Rachel Samuel,
Deputy Committee Management Officer.

[FR Doc. E8-10098 Filed 5-6-08; 8:45 am]

BILLING CODE 6450-01-P